DEPARTMENT OF LABOR

Employment And Training Administration

[TA-W-55,408]

Kokoku Wire Industries, South Bend, Indiana; Notice of Affirmative Determination Regarding Application for Reconsideration

By application of October 28, 2004, 2004, a petitioner requested administrative reconsideration of the Department's Notice of Negative Determination Regarding Eligibility to Apply for Worker Adjustment Assistance, applicable to workers of the subject firm. The denial was signed on September 20, 2004. The Notice of determination was published in the Federal Register on October 26, 2004 (69 FR 62460).

The petitioner alleges in the request for reconsideration that the Department's investigation was not complete.

The Department reviewed the request for reconsideration and will conduct further investigation to determine if the workers meet the eligibility requirements of the Trade Act of 1974.

Conclusion

After careful review of the application, I conclude that the claim is of sufficient weight to justify reconsideration of the Department of Labor's prior decision. The application is, therefore, granted.

Signed at Washington, DC, this 7th day of December 2004.
Elliott S. Kushner,
Certifying Officer, Division of Trade Adjustment Assistance.

[FR Doc. E4-3734 Filed 12-17-04; 8:45 am]

BILLING CODE 4310-30-P